DEPARTMENT OF EDUCATION

Student Assistance General Provisions, Federal Perkins Loan, Federal Work-Study, Federal Supplemental Educational Opportunity Grant, Federal Family Education Loan, William D. Ford Federal Direct Loan, Federal Pell Grant, and Leveraging Educational Assistance Partnership Programs

AGENCY: Department of Education.

ACTION: Notice extending institutional and applicant filing and reporting deadlines.

SUMMARY: The Secretary announces an extension of the deadline dates for specific filing and reporting activities, including those published in the Federal Register on March 22, 2005 (70 FR 14450), April 13, 2005 (70 FR 19423), and June 7, 2005 (70 FR 33134). The Secretary takes this action as a result of the extensive damage and disruption in the southern United States caused by Hurricane Katrina. The new dates apply only to (1) institutions or third-party servicers that are located in a federally-declared disaster area and that were adversely affected by Hurricane Katrina, and (2) applicants that are adversely affected by the hurricane.

In addition, the Secretary reminds affected parties that additional guidance and regulatory relief are provided in Dear Colleague Letter GEN-04-04, available at: http://www.ifap.ed.gov/dpcletters/GEN0404.html.

SUPPLEMENTARY INFORMATION: The Secretary announces new deadlines, as described below.

Activities Related to Institutional Reporting

FISAP Filing Deadline: For an affected institution or third-party servicer that is unable to meet the previously published deadline of September 30, 2005, the Secretary extends to December 1, 2005, the date by which the institution's FISAP (Fiscal Operations Report for 2004-2005 and Application to Participate for 2006-2007) must be submitted. If the institution or servicer cannot meet the extended deadline, it must contact the Campus-Based Call Center at 1-877-801-7168, or by e-mail at CBFOB@ed.gov. An institution or servicer that submits a FISAP after September 30, 2005, must maintain documentation of the hurricane-related reason why it did so.

Audit Submission Deadline: For an affected institution or third-party servicer that is unable to submit its annual compliance audit and/or audited financial statements, the Secretary extends by 90 days the date by which the institution or servicer must otherwise submit those audits as provided in 34 CFR 668.23. If the institution or servicer cannot meet the extended deadline, it must contact the appropriate School Participation Team. Institutions or servicers in Alabama and Mississippi should contact Charles Engstrom at (404) 562-6309, or by e-mail at charles.engstrom@ed.gov. Institutions or servicers in Louisiana should contact the Department of Education's Dallas Regional Office at (214) 661-9490, or by e-mail at jackie.shipman@ed.gov. An institution or servicer that submits its annual audit after the deadline in 34 CFR 668.23 must maintain documentation of the hurricane-related reason why it did so.

2004-2005 Federal Pell Grant Reporting Deadline: For an affected institution or third-party servicer that is unable to meet the previously published deadline of September 30, 2005, the Secretary grants administrative relief and extends to December 1, 2005, the date by which the institution or servicer must report Federal Pell Grant payments (and adjustments) for the 2004-2005 award year to the Common Origination and Disbursement (COD) System. If the institution or servicer cannot submit the records by the extended deadline, it must contact the COD School Relations Center at 1-800-4PGRANT (1-800-474-7268), or by e-mail at CODSupport@acs-inc.com. An institution or servicer that submits Pell Grant payment information for the 2004-2005 award year after September 30, 2005, must maintain documentation of the hurricane-related reason why it did so.

Submission of Federal Pell Grant Disbursement Records: For the 2004-2005 and 2005-2006 award years, the Secretary will not enforce the current 30-day reporting requirement against an affected institution or third-party servicer that is unable to submit Federal Pell Grant disbursement records to the Common Origination and Disbursement (COD) System. Instead, the institution or servicer has until December 1, 2005, to submit these records. If the institution or servicer cannot submit the records by the extended deadline, it must contact the COD School Relations Center at 1-800-4PGRANT (1-800-474-7268), or by e-mail at CODSupport@acs-inc.com. An affected institution or servicer that does not submit Pell Grant payment information within the 30-day timeframe must maintain documentation of the hurricane-related reason why it did so.

Submission of Federal Direct Loan Records: The Secretary will not enforce the current 30-day requirement against an affected institution or third-party servicer that is unable to submit William D. Ford Federal Direct Loan (Direct Loan) promissory notes, loan origination records, and disbursement records (including adjustments) to the Common Origination and Disbursement (COD) System. Instead, the institution or servicer has until December 1, 2005, to submit these records. If an institution or servicer cannot submit the records by the extended deadline, it must contact the COD School Relations Center at 1-800-848-0978, or by e-mail at CODSupport@acs-inc.com. An affected institution or servicer that does not submit Direct Loan information within the current 30-day timeframe must maintain documentation of the hurricane-related reason why it did so.

Activities Related to Applicant Filing

FAFSA Correction Deadline: For an affected applicant for the 2004-2005 award year, the Secretary extends from September 15, 2005, to December 1, 2005, the date by which the Department's Central Processing System (CPS) must have received the following items:

• Paper corrections (including address changes and changes of institutions) made using a SAR;

• Electronic corrections (including address changes and changes of institutions) made from FAFSA on the Web, FAA Access to CPS Online, or EDE;

• Changes to mailing or e-mail addresses, changes of institutions, and requests for a duplicate SAR made by phone to the Federal Student Aid Information Center; and

• Paper signature pages and electronic signatures.

Activities Related to Documents Received by an Institution

Receipt of SARs and ISIRs: For an affected applicant, institution, or third-party servicer, the Secretary extends from September 23, 2005, to December 1, 2005, the date by which the institution or servicer must have received a SAR from a student, or an ISIR from the Department, for the student to be considered for a Federal Pell Grant for the 2004-2005 award year. An institution or servicer that pays Federal Student Aid on a SAR or ISIR that was received after September 23, 2005, must maintain documentation of the hurricane-related reason why the SAR or ISIR was not received by that date.

Receipt of Verification Documents: The Secretary extends from September 23, 2005, to December 1, 2005, the date by which an institution or third-party servicer must have received all requested verification documents to consider an applicant for Federal Student Aid for the 2004-2005 award year. An institution or servicer that pays Federal Student Aid based on verification documents received after September 23, 2005, must maintain documentation of the hurricane-related reason why those documents were not received by that date.

FOR FURTHER INFORMATION CONTACT: For general questions, John Kolotos, U.S. Department of Education, 400 Maryland Avenue, SW., UCP, room 113F2, Washington, DC 20202. Telephone: (202) 377-4027, Fax: (202) 275-4552, or by e-mail: john.kolotos@ed.gov.

For other questions or requests for extensions, contact the appropriate call center as noted elsewhere in this notice or the Customer Service Call Center at 1-800-433-7327.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1070a, 1070b-1070b-4, 1070c-1070c-4, 1071-1087-2, 1087a-1087j, 1087aa-1087ii, 1094, and 1099c; 42 U.S.C. 2751-2756b.

(Catalog of Federal Domestic Assistance numbers: 84.007 Federal Supplemental Educational Opportunity Grant (FSEOG) Program; 84.032 Federal Family Education Loan (FFEL) Programs; 84.033 Federal Work-Study (FWS) Program; 84.038 Federal Perkins (Perkins) Loans; 84.063 Federal Pell Grant (Pell) Program; 84.069 Leveraging Educational Assistance Partnership (LEAP) Programs; and 84.268 William D. Ford Federal Direct Loan (Direct Loan) Programs)
Dated: September 7, 2005.
Theresa S. Shaw,
Chief Operating Officer, Federal Student Aid.

[FR Doc. 05-18034 Filed 9-8-05; 8:45 am]

BILLING CODE 4000-01-P